NATIONAL SCIENCE FOUNDATION

Proposal Review Panel for Physics; Notice of Meeting

In accordance with the Federal Advisory Committee Act (Pub. L. 92-463, as amended), the National Science Foundation announces the following meeting:

Name and Committee Code: Review of Logistics Requirements for the IceCube Upgrade Project (1208) (V220456).

Date and Time:

November 3-4, 2021; 10:30 a.m.-6:00 p.m. (EDT)

November 5, 2021; 10:30 a.m.-2:30 p.m. (EDT)

Place: University of Wisconsin, 222 West Washington Avenue, Suite 500; Madison, WI 53703 | Virtual.

Type of Meeting: Part-Open.

Contact Person: Mark Coles, Program Director, Division of Physics, National Science Foundation, 2415 Eisenhower Avenue., Room 9219, Alexandria, VA 22314; Telephone: (703) 292-4432.

Purpose of Meeting: Virtual site visit to provide an evaluation of the logistical requirements for the upgrade to the IceCube Neutrino Observatory held at the host site for the Division of Physics at the National Science Foundation.

Agenda: NSF will provide the Zoom coordinates for each meeting (All times Eastern Daylight Time [EDT]):

November 3, 2021

10:30 a.m.-11:00 a.m.: Executive Session (Closed)

11:00 a.m.-1:00 p.m.: Presentations on the logistical requirements

1:30 p.m.-5:00 p.m.: Presentations on the logistical requirements

5:00 p.m.-6:00 p.m.: Executive Session (Closed)

November 4, 2021

10:30 a.m.-11:00 a.m.: Executive Session (Closed)

11:00 a.m.-12:30 p.m.: Question and Answer with review panel

1:00 p.m.-5:00 p.m.: Parallel Sessions: Session 1—Cargo; Session 2—Labor

5:00 p.m.-6:00 p.m.: Executive Session (Closed)

November 5, 2021

10:30 a.m.-11:30 p.m.: Question and Answer with review panel—if needed

11:30 a.m.-2:00 p.m.: Panel deliberations (Closed)

2:00 p.m.-2:30 p.m.: Closeout presentation by Review Panel

Reason for Closing: The work being reviewed during closed portions of the virtual site visit include information of a proprietary or confidential nature, including technical information; financial data, such as salaries and personal information concerning individuals associated with the project. These matters are exempt under 5 U.S.C. 552b(c), (4) and (6) of the Government in the Sunshine Act.

Dated: September 29, 2021.
Crystal Robinson,
Committee Management Officer.

[FR Doc. 2021-21543 Filed 10-1-21; 8:45 am]

BILLING CODE 7555-01-P